COMMISSION ON CIVIL RIGHTS

Agenda and Notice of Public Meeting of the Hawaii Advisory Committee

Notice is hereby given, pursuant to the provisions of the rules and regulations of the U.S. Commission on Civil Rights (Commission) and the Federal Advisory Committee Act (FACA) that a meeting of the Hawaii Advisory Committee (Committee) to the Commission will convene by conference call at 10:00 a.m. Hawaiian Time (1:00 p.m. Pacific Time) on December 6, 2013. The purpose of the meeting is for the Committee to discuss a report to the Commission on language access as a civil right.

This meeting is available to the public through the following toll-free call-in number: 877-446-3914, conference ID: 9935615. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to submit written comments. The comments must be received in the regional office by January 6, 2014. The address is U.S. Commission on Civil Rights, Western Regional Office, 300 North Los Angeles St., Suite 2010, Los Angeles, CA, 90012. Comments may be emailed to atrevino@usccr.gov.

Records generated from this meeting may be inspected and reproduced at the Western Regional Office, as they become available, both before and after the meeting. Persons interested in the work of this advisory committee are advised to go to the Commission's Web site, www.usccr.gov, or to contact the Western Regional Office at the above email or street address.

The meeting will be conducted pursuant to the provisions of the rules and regulations of the Commission and FACA.

Dated: November 15, 2013.
David Mussatt,
Acting Chief, Regional Programs Coordination Unit.

[FR Doc. 2013-27820 Filed 11-19-13; 8:45 am]

BILLING CODE 6335-01-P